POSTAL SERVICE

International Product Change—Removal of International Money Transfer Service—Outbound and International Money Transfer Service—Inbound

AGENCY: Postal Service™.

ACTION: Notice.

SUMMARY: The Postal Service gives notice of filing a request with the Postal Regulatory Commission to remove International Money Transfer Service—Outbound, effective October 1, 2024, and International Money Transfer Service—Inbound, effective October 1, 2025, from the Competitive Product List in the Mail Classification Schedule.

DATES: Applicable dates: October 1, 2024, and October 1, 2025.

FOR FURTHER INFORMATION CONTACT: Christopher C. Meyerson, 202-268-7820.

SUPPLEMENTARY INFORMATION: The United States Postal Service® hereby gives notice that, pursuant to 39 U.S.C. 3642 and 39 CFR 3040.130 et seq., on July 5, 2024, it filed with the Postal Regulatory Commission a Request of the United States Postal Service to Remove International Money Transfer Service—Outbound and International Money Transfer Service—Inbound from the Competitive Product List in the Mail Classification Schedule. Documents are available at www.prc.gov, Docket No. MC2024-413.

Christopher Doyle,
Attorney, Ethics and Legal Compliance.

[FR Doc. 2024-15342 Filed 7-11-24; 8:45 am]

BILLING CODE 7710-12-P